DEPARTMENT OF EDUCATION

[Docket No.: ED-2023-SCC-0017]

Agency Information Collection Activities; Submission to the Office of Management and Budget for Review and Approval; Comment Request; Evaluation of Full-Service Community Schools: Early Implementation Data Collection

AGENCY: Institute of Education Sciences (IES), Department of Education (ED).

ACTION: Notice.

SUMMARY: In accordance with the Paperwork Reduction Act (PRA) of 1995, the Department is proposing a new information collection request (ICR).

DATES: Interested persons are invited to submit comments on or before May 31, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Erica Johnson, (202) 245-7676.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of Full-Service Community Schools: Early Implementation Data Collection.

OMB Control Number: 1850-NEW.

Type of Review: New ICR.

Respondents/Affected Public: State, Local, and Tribal Governments.

Total Estimated Number of Annual Responses: 14.

Total Estimated Number of Annual Burden Hours: 4.

Abstract: The Full-Service Community Schools program seeks to improve student outcomes by helping schools expand and enrich learning opportunities, provide integrated student support services, strengthen family and community engagement, and adopt collaborative leadership practices that include families and community organizations. Congress has invested $180 million in Full-Service Community Schools grants and mandated an evaluation of the program.

This package requests approval to conduct a survey of Full-Service Community Schools 2022 grantees. These data will be used to study the early implementation of the Full-Service Community Schools program.

Dated: April 25, 2023.
Juliana Pearson,
PRA Coordinator, Strategic Collections and Clearance Governance and Strategy Division, Office of Chief Data Officer, Office of Planning, Evaluation and Policy Development.

[FR Doc. 2023-09091 Filed 4-28-23; 8:45 am]

BILLING CODE 4000-01-P